SECURITIES AND EXCHANGE COMMISSION

Sunshine Act Meeting

Federal Register Citation of Previous Announcement: 71 FR 71597, December 11, 2006.

Status: Open Meeting.

Place: 100 F Street, NE., Auditorium, LL-002, Washington, DC.

Date and Time of Previously Announced Meeting: Wednesday, December 13, 2006.

Change in the Meeting: Additional Item.

The following matter will also be considered as part of Item 3 during the 10 a.m. Open Meeting scheduled for Wednesday, December 13, 2006:

The Commission will consider whether to propose changes to its requirements for attestation reports.

Commissioner Casey, as duty officer, determined that no earlier notice thereof was possible.

At times, changes in Commission priorities require alterations in the scheduling of meeting items. For further information and to ascertain what, if any, matters have been added, deleted or postponed, please contact the Office of the Secretary at (202) 551-5400.

Dated: December 11, 2006.
Nancy M. Morris,
Secretary.

[FR Doc. 06-9722 Filed 12-12-06; 10:53 am]

BILLING CODE 8011-01-P